ENVIRONMENTAL PROTECTION AGENCY

[EPA-HQ-OPP-2022-0223; FRL-11357-01-OCSPP]

Chlorpyrifos; Notice Receipt of Request To Voluntarily Cancel Certain Pesticide Registrations

AGENCY: Environmental Protection Agency (EPA).

ACTION: Notice.

SUMMARY: In accordance with the Federal Insecticide, Fungicide and Rodenticide Act (FIFRA), EPA is issuing a notice of receipt of requests by Loveland Products, Inc. (hereafter referred to as Loveland) to voluntarily cancel registrations of certain products containing the pesticide chlorpyrifos. EPA intends to grant these requests at the close of the comment period for this announcement unless the Agency receives substantive comments within the comment period that would merit its further review of the requests, or the registrant withdraws their request. If these requests are granted, any sale, distribution, or use of the products listed in this notice after the registrations have been cancelled would need to be consistent with the terms as described in the final cancellation order.

DATES: Comments must be received on or before September 28, 2023.

ADDRESSES: The docket for this action, identified by docket identification (ID) number EPA-HQ-OPP-2022-0223, is available at https://www.regulations.gov. Additional instructions on visiting the docket, along with more information about dockets generally, is available at https://www.epa.gov/dockets. For the latest status information on EPA/DC services and docket access, visit https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through https://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of requests from Loveland to cancel certain pesticide product registrations. These affected registrations are listed in sequence by registration number in Table 1 of this Unit. Table 2 of this Unit includes the address of record for Loveland and the company number. This number corresponds to the first part of the EPA registration number of the products listed in Table 1 of this Unit.

Unless the Agency determines that there are substantive comments that warrant further review of the requests or Loveland withdraws the requests, EPA intends to issue a final order in the Federal Register cancelling the affected registrations.

Table 1—Chlorpyrifos Product Registrations With Pending Requests for Cancellation
EPA registration No. | Product name | Company | Active ingredients
34704-857 | Warhawk | Loveland Products, Inc | Chlorpyrifos.
34704-1077 | Warhawk Clearform | Loveland Products, Inc | Chlorpyrifos.
34704-1086 | Match-Up Insecticide | Loveland Products, Inc | Chlorpyrifos Bifenthrin.

Table 2—Registrant Requesting Voluntary Cancellation
EPA company No. | Company name and address
34704 | Loveland Products, Inc., Agent name: Pyxis Regulatory Consulting, 4110 136th St. Ct. NW, Gig Harbor, WA 98332.

III. What is the Agency's authority for taking these actions?

FIFRA section 6(f)(1) (7 U.S.C. 136d(f)(1)) provides that a registrant of a pesticide product may at any time request that any of its pesticide registrations be cancelled or amended to terminate one or more registered uses. FIFRA further provides that, before acting on the request, EPA must publish a notice of receipt of any such request in the Federal Register.

FIFRA section 6(f)(1)(B) (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrant requests a waiver of the comment period, or

2. The EPA Administrator determines that continued use of the pesticide would pose an unreasonable adverse effect on the environment.

Loveland has requested that EPA waive the 180-day comment period. Accordingly, EPA will provide a 30-day comment period on the proposed requests.

IV. Procedures for Withdrawal of Request

Registrants who choose to withdraw a request for cancellation or withdraw a request for a use termination should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

If the requests for voluntary cancellation are granted, the Agency intends to publish a final cancellation order in the Federal Register. In any order issued in response to these requests for cancellation of product registrations, EPA proposes to include the following provisions for the treatment of any existing stocks of the products listed in Table 1 of Unit II.

All chlorpyrifos tolerances expired on February 28, 2022. See 87 FR 11222 (Feb. 28, 2022). Therefore, any food or animal feed treated with chlorpyrifos after February 28, 2022, is considered adulterated and cannot be delivered into interstate commerce. Consequently, EPA plans to prohibit existing stocks of chlorpyrifos products identified in Table 1 for food uses. Use of the products identified in Table 1 is permitted on non-food use sites, as long as such use is consistent with the label. EPA proposes prohibiting all sale and distribution of existing stocks of the chlorpyrifos products identified in Table 1, except for export consistent with FIFRA section 17 (7 U.S.C. 136o) or for proper disposal in accordance with state regulations.

Authority: 7 U.S.C. 136 et seq.

Dated: August 22, 2023.
Mary Elissa Reaves,
Director, Pesticide Re-Evaluation Division, Office of Pesticide Programs.

[FR Doc. 2023-18544 Filed 8-28-23; 8:45 am]

BILLING CODE 6560-50-P